DEPARTMENT OF THE INTERIOR

Fish and Wildlife Service

[FWS-R4-R-2009-N0117; 40136-1265-0000-S3]

Black Bayou Lake National Wildlife Refuge, Ouachita Parish, LA

AGENCY: Fish and Wildlife Service, Interior.

ACTION: Notice of availability: draft comprehensive conservation plan and environmental assessment; request for comments.

SUMMARY: We, the Fish and Wildlife Service (Service), announce the availability of a draft comprehensive conservation plan and environmental assessment (Draft CCP/EA) for Black Bayou Lake National Wildlife Refuge (Black Bayou Lake NWR) for public review and comment. In this Draft CCP/EA, we describe the alternative we propose to use to manage this refuge for the 15 years following approval of the final CCP.

DATES: To ensure consideration, we must receive your written comments by October 30, 2009.

ADDRESSES: Send comments, questions, and requests for information to: Ms. Tina Chouinard, Refuge Planner, Fish and Wildlife Service, 6772 Highway 76 South, Stanton, TN 38069, or by e-mail to: tina_chouinard@fws.gov. The Draft CCP/EA is available on compact disk or in hard copy. The Draft CCP/EA may also be accessed and downloaded from the Service's Internet Site: http://southeast.fws.gov/planning.

FOR FURTHER INFORMATION CONTACT: Ms. Tina Chouinard; telephone: 731-432-0981.

SUPPLEMENTARY INFORMATION:

Introduction

With this notice, we continue the CCP process for Black Bayou Lake NWR. We started the process through a notice in the Federal Register on May 8, 2008 (73 FR 26139).

Background

The CCP Process

The National Wildlife Refuge System Improvement Act of 1997 (16 U.S.C. 668dd-668ee) (Improvement Act), which amended the National Wildlife Refuge System Administration Act of 1966, requires us to develop a CCP for each national wildlife refuge. The purpose for developing a CCP is to provide refuge managers with a 15-year strategy for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Improvement Act.

Black Bayou Lake NWR is a unit of the North Louisiana National Wildlife Refuge Complex. Other refuges in the Complex include: D'Arbonne, Upper Ouachita, Handy Brake, and Red River, and the Louisiana Wetlands Management District. Each refuge has unique issues and has had separate planning efforts and public involvement.

Black Bayou Lake NWR, established in 1997, is 3 miles north of the city of Monroe, just east of Highway 165 in Ouachita Parish, Louisiana. It contains 4,522 acres of wetland, bottomland hardwood, and upland mixed pine/hardwood habitats. Although the suburban sprawl of the city of Monroe abuts much of its boundary, the refuge itself represents many habitat types and is home to a diversity of plants and animals. Black Bayou Lake NWR is situated in the Mississippi Flyway, the Mississippi Alluvial Valley Bird Conservation Region, and the Lower Mississippi River Ecosystem. The refuge plays an important role regionally in fulfilling the goals of the National Wildlife Refuge System. Its close proximity to the city of Monroe gives the public opportunities to participate in educational programs that promote wildlife stewardship.

Black Bayou Lake NWR was established for “* * * the conservation of the wetlands of the Nation in order to maintain the public benefits they provide and to help fulfill international obligations contained in various migratory bird treaties and conventions * * *” (16 U.S.C. 3901 (b)) (Wetlands Resources Act).

The central physical feature of the refuge is the lake itself. Black Bayou Lake, consisting of approximately 1,500 acres, is studded with bald cypress and water tupelo trees. The western half of the lake is open and deeper, unlike the eastern side, which is thick with trees and emergent vegetation. The lake is owned by the city of Monroe, which manages the lake's water level as a secondary source of municipal water. The Service has a 99-year free lease on the lake and some of its surrounding land, consisting of a total of 1,620 acres. The refuge owns the remaining 2,902 acres, consisting of upland pine/hardwood and bottomland hardwood forests.

Significant issues addressed in this Draft CCP/EA include: (1) Managing for invasive species and species of special concern, such as the alligator snapping turtle; (2) managing mixed pine upland and bottomland hardwood forests; (3) land protection; (4) urban development and wildlife management; (5) maintaining the excellent environmental education and interpretation programs; and (6) increasing resources.

CCP Alternatives, Including Our Proposed Alternative

We developed three alternatives for managing the refuge and chose Alternative B as the proposed alternative. A full description of each alternative is in the Draft CCP/EA. We summarize each alternative below.

Alternative A—Current Management Direction (No Action Alternative)

Black Bayou Lake NWR is part of the Lower Mississippi River Ecosystem and is considered to be in the Mississippi Alluvial Valley Bird Conservation Region. As such, Black Bayou Lake NWR is a component of many regional and ecosystem conservation planning initiatives. Under Alternative A, we would continue management of the refuge at its current level of participation in these initiatives throughout the 15-year duration of the CCP. Current approaches to managing wildlife and habitats, protecting resources, and allowing for public use would remain unchanged.

The mix of habitats on the refuge, including bottomland hardwood and upland pine hardwood forests, would be restored and managed appropriately. We would continue to work with partners to acquire lands within the current refuge boundary. We would continue to provide habitat for native wildlife species, wintering waterfowl, and year-round habitat for nesting wood ducks. We would also maintain the current habitat mix to benefit other migratory birds. We would continue existing surveys to monitor long-term population trends and health of migratory and resident species.

We would work with volunteers to maintain the current public use and environmental education programs on the refuge. We would continue to serve the public and the Complex with a quality wildlife-dependent visitor services program.

Alternative B—Optimize Biological Program and Visitor Services (Proposed Alternative)

Under Alternative B, we would strive to optimize both our biological program and visitor services program. We would continue to provide habitat for resident wildlife species and would aim to increase our knowledge of migratory birds, reptiles, amphibians, invertebrates, and species of special concern, such as the alligator snapping turtle, by developing and implementing monitoring programs. We would use our resources to create and/or maintain a variety of habitats compatible with historic habitat types. Efforts to control invasive species would increase.

Under Alternative B, land acquisition, bottomland hardwood forest management, and resource protection would be intensified. In the Private Lands Program, we would work with private landowners on adjacent tracts to manage and improve habitats.

Under Alternative B, we would hire a fulltime law enforcement officer, a refuge operations specialist, a maintenance worker, and a park ranger (visitor services). With regard to cultural resources, including those of an archaeological or historical nature, within 15 years of CCP approval, we would develop and begin to implement a Cultural Resources Management Plan.

Public use and environmental education programs would be enhanced with the addition of two park rangers (visitor services and law enforcement). Within 3 years of CCP completion, we would develop a Visitor Services Plan to guide us in maintaining quality public use facilities and opportunities on the refuge.

Over the 15-year life of the CCP, we would increase environmental education and interpretation opportunities to emphasize the importance of the refuge's habitats and resources.

Alternative C—Minimize Management and Public Use Management

This alternative would minimize wildlife and habitat management and the public use program. Baseline inventorying and monitoring programs would be eliminated; monitoring for changes in trends would not be necessary to achieve the purposes of the refuge.

Public use would be maintained and monitored for impacts to wildlife. Fishing, environmental education, and wildlife observation and photography would be accommodated the same as under the No Action Alternative. Waterfowl hunting would be eliminated. Staffing would remain the same as under the No Action Alternative.

Next Step

After the comment period ends, we will analyze the comments and address them.

Public Availability of Comments

Before including your address, phone number, e-mail address, or other personal identifying information in your comment, you should be aware that your entire comment—including your personal identifying information—may be made publicly available at any time. While you can ask us in your comment to withhold your personal identifying information from public review, we cannot guarantee that we will be able to do so.

Authority

This notice is published under the authority of the National Wildlife Refuge System Improvement Act of 1997, Public Law 105-57.

Dated: July 13, 2009.
Cynthia K. Dohner,
Acting Regional Director.

[FR Doc. E9-23559 Filed 9-29-09; 8:45 am]

BILLING CODE 4310-55-P